DEPARTMENT OF COMMERCE

National Oceanic and Atmospheric Administration

[I.D. 070202A]

Marine Mammals; File No. 455-1445

AGENCY: National Marine Fisheries Service (NMFS), National Oceanic and Atmospheric Administration (NOAA), Commerce.

ACTION: Issuance of permit amendment.

SUMMARY: Notice is hereby given that the Waikiki Aquarium (Dr. Cindy Hunter, PI) has been issued an amendment to scientific research and enhancement Permit No. 455-1445-02.

ADDRESSES: The amendment and related documents are available for review upon written request or by appointment in the following office(s):

Permits, Conservation and Education Division, Office of Protected Resources, NMFS, 1315 East-West Highway, Room 13705, Silver Spring, MD 20910; phone (301)713-2289; fax (301)713-0376;

Southwest Region, NMFS, 501 West Ocean Blvd., Suite 4200, Long Beach, CA 90802-4213; phone (562)980-4001; fax (562)980-4018;

Protected Species Coordinator, Pacific Area Office, NMFS, 1601 Kapiolani Blvd., Rm, 1110, Honolulu, HI 96814-4700; phone (808)973-2935; fax (808)973-2941;

FOR FURTHER INFORMATION CONTACT: Amy Sloan or Ruth Johnson, (301)713-2289.

SUPPLEMENTARY INFORMATION: On August 23, 2001, notice was published in the Federal Register (66 FR 44333) that an amendment of Permit No. 455-1445, issued on May 26, 1998 (63 FR 30201), had been requested by the above-named organization. The requested amendment has been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

Permit No. 455-1445-02, which authorized the Waikiki Aquarium to hold Hawaiian monk seals (Monachus schauinslandi) for the purpose of enhancing the survival and recovery of the species, has been amended to extend the scientific research portion of the permit to the expiration date of June 30, 2003. The research involves studies on the efficiency with which the monk seals assimilate and metabolize amino acids and fatty acids from common prey types, and the elucidation and monitoring of how reproductive and metabolic activities are related in male monk seals. Research will involve the following types of takes: feeding a controlled diet; monthly blood sampling; weekly saliva sampling; weekly morphometric measurements; and quarterly deuterium oxide administration with pre- and post-administration blood sampling.

Issuance of this amendment, as required by the ESA, was based on a finding that such permit (1) was applied for in good faith, (2) will not operate to the disadvantage of the endangered species which is the subject of this permit, and (3) is consistent with the purposes and policies set forth in section 2 of the ESA.

Dated: August 13, 2002.
Eugene T. Nitta,
Acting Chief, Permits, Conservation and Education Division, Office of Protected Resources, National Marine Fisheries Service.

[FR Doc. 02-21022 Filed 8-16-02; 8:45 am]

BILLING CODE 3510-22-S